DEPARTMENT OF AGRICULTURE

Forest Service

Master Development Plan For Pelican Butte Ski Area, Winema National Forest, Klamath County, OR

AGENCY: Forest Service, USDA.

ACTION: Cancellation notice.

SUMMARY: On October 18, 1996, a Notice of Intent (NOI) to prepare an environmental impact statement for the Master Development Plan For Pelican Butte Ski Area, was published in the Federal Register (61 FR 54410). The 1996 NOI is hereby rescinded.

FOR FURTHER INFORMATION CONTACT: Charles Graham, Forest Supervisor, Winema National Forest, 2819 Dahlia Street, Klamath Falls, Oregon 97601, telephone 541-883-6736.

Dated: November 29, 2001.
Jack B. Sheehan,
Deputy Forest Supervisor.

[FR Doc. 01-30235 Filed 12-5-01; 8:45 am]

BILLING CODE 3410-11-M